DEPARTMENT OF HOMELAND SECURITY

Federal Emergency Management Agency

[Docket ID: FEMA-2017-0032; OMB No. 1660-0039]

Agency Information Collection Activities: Proposed Collection; Comment Request; National Fire Academy Long-Term Evaluation Form for Supervisors and National Fire Academy Long-Term Evaluation Form for Students/Trainees

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the long-term evaluation forms used to evaluate all National Fire Academy resident training.

DATES: Comments must be submitted on or before December 26, 2017.

ADDRESSES: To avoid duplicate submissions to the docket, please use only one of the following means to submit comments:

(1) Online. Submit comments at www.regulations.gov under Docket ID FEMA-2017-0032. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Dawn Long, Statistician, FEMA, National Fire Academy at (301) 447-1488. You may contact the Records Management Division for copies of the proposed collection of information at email address: FEMA-Information-Collections-Management@fema.dhs.gov.

SUPPLEMENTARY INFORMATION: The National Fire Academy (NFA) is mandated under the Fire Prevention and Control Act of 1974 (Pub. L. 93-498) to provide training and education to the Nation's fire service and emergency service personnel. The state of-the-art programs offered by the NFA serve as models of excellence and State and local fire service agencies rely heavily on the curriculum to train their personnel. To maintain the quality of these training programs, it is critical that courses be evaluated after students have had the opportunity to apply the knowledge and skills gained from their training. Information collected from the evaluation forms enables the U.S. Fire Administration (USFA) and NFA staff to monitor and recommend changes in course materials, individual subject selection criteria, and to make curriculum-wide reviews and assessments. FEMA is seeking a revision of a currently approved information collection because we are modifying the two forms. One question was added to each form to better reflect and measure the NFA's progress toward the USFA's goals. Two questions were removed from the student/trainee form that are no longer relevant to NFA's data collection.

Collection of Information

Title: National Fire Academy Long-Term Evaluation Form for Supervisors and National Fire Academy Long-Term Evaluation Form for Students/Trainees.

Type of Information Collection: Revision of a currently approved information collection.

OMB Number: 1660-0039.

FEMA Forms: FEMA Form 078-0-2, National Fire Academy Long-Term Evaluation Form for Supervisors; FEMA Form 078-0-2A, National Fire Academy Long-Term Evaluation Form for Students/Trainees.

Abstract: The National Fire Academy Long-Term Evaluation Forms will be used to evaluate all National Fire Academy (NFA) on-campus resident training courses. Course graduates and their supervisors will be asked to evaluate the impact of the training on both individual job performance and the performance of the fire and emergency response department where the student works. The data provided by students and supervisors is used to update existing NFA course materials and to develop new courses that reflect the emerging issues and needs of the Nation's fire service.

Affected Public: State, local or Tribal Government.

Estimated Number of Respondents: 3,000.

Estimated Number of Responses: 3,000.

Estimated Total Annual Burden Hours: 405 hours.

Estimated Total Annual Respondent Cost: $17,154.30.

Estimated Respondents' Operation and Maintenance Costs: $0.

Estimated Respondents' Capital and Start-Up Costs: $0.

Estimated Total Annual Cost to the Federal Government: $44,786.65.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: October 16, 2017.
Tammi Hines,
Acting Records Management Program Chief, Mission Support, Federal Emergency Management Agency, Department of Homeland Security.

[FR Doc. 2017-23064 Filed 10-23-17; 8:45 am]

BILLING CODE 9111-45-P